ELECTION ASSISTANCE COMMISSION

Sunshine Act Meetings

AGENCY: Election Assistance Commission.

ACTION: Sunshine Act notice; notice of public meeting agenda.

SUMMARY: Public Meeting: U.S. Election Assistance Commission Technical Guidelines Development Committee Virtual Meeting.

DATES: Wednesday, July 2, 2025; 1-4 p.m. ET. Written public comments must be received no later than 5 p.m. ET on June 27, 2025.

ADDRESSES: The virtual meeting is open to the public and will be livestreamed on the U.S. Election Assistance Commission YouTube Channel: https://www.youtube.com/channel/UCpN6i0g2rlF4ITWhwvBwwZw.

Comments must be submitted in one of the following two ways (please choose only one of the ways listed):

• Electronically at https://www.regulations.gov (docket ID: EAC-2025-0010). Follow the “Submit a comment” instructions. If you are reading this document on federalregister.gov, you may use the green “SUBMIT A PUBLIC COMMENT” button beneath the Sunshine Act Meeting Notice title to submit a comment to the regulations.gov docket.

• You may mail written comments to the following address: U.S. Election Assistance Commission, 633 3rd Street NW, Suite 200, Washington, DC 20001. Mailed comments must be received by the close of the comment period.

Do not include any personally identifiable information (such as name, address, or other contact information) or confidential business information that you do not want publicly disclosed. All comments are public records; they are publicly displayed exactly as received, and will not be deleted, modified, or redacted. Comments may be submitted anonymously. Follow the search instructions on https://www.regulations.gov to view public comments.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a virtual meeting of the EAC Technical Guidelines Development Committee (TGDC) to conduct regular business.

Agenda: The EAC and TGDC members will discuss the draft of the Voluntary Voting System Guidelines (VVSG) 2.1 and the Executive Order to Protect the Integrity of American Elections. There may be votes conducted at this meeting. The full agenda will be posted in advance on the EAC website at eac.gov/events.

Background: Section 221 of the Help America Vote Act (HAVA) of 2002 (52 U.S.C. 20971(b)) requires that the EAC to adopt voluntary voting system guidelines, and to provide for the testing, certification, decertification, and recertification of voting system hardware and software.

The TGDC was established in accordance with the requirements of Section 221 of the Help America Vote Act of 2002 (Pub. L. 107-252, codified at 52 U.S.C. 20961), to act in the public interest to assist the Executive Director of the EAC in the development of Voluntary Voting System Guidelines.

The TGDC is composed of 14 members who are appointed jointly by the EAC and the National Institute of Standards and Technology (NIST). The committee, which the director of NIST chairs, was established to assist the EAC in developing VVSG in accordance with the Help America Vote Act of 2002.

Status: This meeting will be open to the public.

Camden Kelliher,
General Counsel, U.S. Election Assistance Commission.

[FR Doc. 2025-10679 Filed 6-9-25; 11:15 am]

BILLING CODE 4810-71-P